DEPARTMENT OF TRANSPORTATION

Surface Transportation Board

[Ex Parte No. 333]

Sunshine Act Meeting

TIME AND DATE: 10 a.m., October 20, 2004.

PLACE: The Board's Hearing Room, Surface Transportation Board, 1925 K Street, NW., Washington, DC 20423.

STATUS: The Board will meet to discuss among themselves the following agenda items. Although the conference is open for public observation, no public participation is permitted.

MATTERS TO BE CONSIDERED: STB Docket No. 42069, Duke Energy Corporation v. Norfolk Southern Railway Company.

STB Docket No. 42070, Duke Energy Corporation v. CSX Transportation, Inc.

STB Docket No. 42072, Carolina Power & Light Company v. Norfolk Southern Railway Company.

STB Finance Docket No. 33388 (Sub-No. 91), CSX Corporation and CSX Transportation, Inc., Norfolk Southern Corporation and Norfolk Southern Railway Company—Control and Operation Leases/Agreements—Conrail Inc. and Consolidated Rail Corporation [General Oversight].

STB Finance Docket No. 34421, HolRail LLC—Construction and Operation Exemption—in Orangeburg and Dorchester Counties, SC.

Embraced Case: STB Finance Docket No. 34421 (Sub-No. 1), HolRail LLC—Petition for Crossing Authority under 49 U.S.C. 10901(d).

STB Finance Docket No. 34462, MVC Transportation, LLC—Acquisition Exemption—P&LE Properties, Inc.

Embraced Case: STB Finance Docket No. 34462 (Sub-No. 1), MVC Transportation, LLC—Acquisition Exemption—P&LE Properties, Inc.

STB Finance Docket No. 30186 (Sub-No. 3), Tongue River Railroad Company, Inc.—Construction and Operation—Western Alignment.

STB Docket No. AB-68 (Sub-No. 4X), Lake Superior & Ishpeming Railroad Company—Abandonment Exemption—in Marquette County, MI.

FOR FURTHER INFORMATION CONTACT: A. Dennis Watson, Office of Congressional and Public Services, Telephone: (202) 565-1596 FIRS: 1-800-877-8339.

Dated: October 13, 2004.
Vernon A. Williams,
Secretary.

[FR Doc. 04-23367 Filed 10-14-04; 11:51 am]

BILLING CODE 4915-01-P